DEPARTMENT OF TRANSPORTATION

Federal Aviation Administration

14 CFR Part 39

[Docket No. FAA-2012-1106; Directorate Identifier 2012-NM-084-AD; Amendment 39-17341; AD 2013-03-06]

RIN 2120-AA64

Airworthiness Directives; Airbus Airplanes

AGENCY: Federal Aviation Administration (FAA), Department of Transportation (DOT).

ACTION: Final rule.

SUMMARY: We are adopting a new airworthiness directive (AD) for all Airbus Model A330-200 Freighter, -200, and -300 series airplanes; and Model A340-200, -300, -500, and -600 series airplanes. This AD was prompted by a report that erroneous height indication by one radio altimeter with engaged flare and retard mode, in case of go-around, might lead to a temporary loss of airplane longitudinal control. This AD requires revising the airplane flight manual. We are issuing this AD to ensure that the flightcrew applies the appropriate operational procedures in the event of an erroneous indication of the radio altimeter, which could result in temporary loss of airplane longitudinal control.

DATES: This AD becomes effective April 15, 2013.

The Director of the Federal Register approved the incorporation by reference of certain publications listed in this AD as of April 15, 2013.

ADDRESSES: You may examine the AD docket on the Internet at http://www.regulations.gov or in person at the U.S. Department of Transportation, Docket Operations, M-30, West Building Ground Floor, Room W12-140, 1200 New Jersey Avenue SE., Washington, DC.

FOR FURTHER INFORMATION CONTACT: Vladimir Ulyanov, Aerospace Engineer, International Branch, ANM-116, Transport Airplane Directorate, FAA 1601 Lind Avenue SW., Renton, Washington 98057-3356; telephone (425) 227-1138; fax (425) 227-1149.

SUPPLEMENTARY INFORMATION:

Discussion

We issued a notice of proposed rulemaking (NPRM) to amend 14 CFR part 39 to include an AD that would apply to the specified products. That NPRM was published in the Federal Register on October 25, 2012 (77 FR 65146). That NPRM proposed to correct an unsafe condition for the specified products. The Mandatory Continuing Airworthiness Information (MCAI) states:

Airbus performed tests to investigate the consequences of one radio altimeter providing an erroneous indication.

These tests concluded that with engaged flare and retard mode, in case of go-around, the situation may lead to a temporary loss of aeroplane longitudinal control.

To address this condition, Airbus issued a new Airplane Flight Manual (AFM) operational procedure.

For the reasons described above, this [European Aviation Safety Agency] AD requires amendment of the applicable AFM to ensure that the flight crew applies the appropriate operational procedures.

You may obtain further information by examining the MCAI in the AD docket.

Comments

We gave the public the opportunity to participate in developing this AD. We considered the comment received. Air Line Pilots Association, International, supported the NPRM (77 FR 65146, October 25, 2012).

Explanation of Changes Made to This AD

We have revised paragraph (g) and Note 1 to paragraph (g) of this AD to remove reference to inserting a copy of this AD into the AFM as a method of complying with the requirements of paragraph (g) of this AD. Inserting a copy of this AD into the AFM does not address the unsafe condition identified in this AD. This language was erroneously included in the NPRM (77 FR 65146, October 25, 2012), and has, therefore, been removed from this AD.

Conclusion

We reviewed the available data, including the comment received, and determined that air safety and the public interest require adopting the AD with the changes described previously—and minor editorial changes. We have determined that these minor changes:

• Are consistent with the intent that was proposed in the NPRM (77 FR 65146, October 25, 2012) for correcting the unsafe condition; and

• Do not add any additional burden upon the public than was already proposed in the NPRM (77 FR 65146, October 25, 2012).

Costs of Compliance

We estimate that this AD will affect 64 products of U.S. registry. We also estimate that it will take about 1 work-hour per product to comply with the basic requirements of this AD. The average labor rate is $85 per work-hour. Based on these figures, we estimate the cost of this AD to the U.S. operators to be $5,440, or $85 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains the NPRM (77 FR 65146, October 25, 2012), the regulatory evaluation, any comments received, and other information. The street address for the Docket Operations office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2013-03-06 Airbus: Amendment 39-17341. Docket No. FAA-2012-1106; Directorate Identifier 2012-NM-084-AD.

(a) Effective Date

This airworthiness directive (AD) becomes effective April 15, 2013.

(b) Affected ADs

None.

(c) Applicability

This AD applies to Airbus Model A330-223F and -243F airplanes; Model A330-201, -202, -203, -223, -243, -301, -302, -303, -321, -322, -323, -341, -342, and -343 airplanes; and Model A340-211, -212, -213, -311, -312, -313, -541, and -642 airplanes; certificated in any category; all manufacturer serial numbers.

(d) Subject

Air Transport Association (ATA) of America Code 34, Navigation.

(e) Reason

This AD was prompted by a report that erroneous height indication by one radio altimeter with engaged flare and retard mode, in case of go-around, might lead to a temporary loss of airplane longitudinal control. We are issuing this AD to ensure that the flightcrew applies the appropriate operational procedures in the event of an erroneous indication of the radio altimeter, which could result in temporary loss of airplane longitudinal control.

(f) Compliance

You are responsible for having the actions required by this AD performed within the compliance times specified, unless the actions have already been done.

(g) Airplane Flight Manual (AFM) Revision

Within 30 days after the effective date of this AD, revise the applicable section of the Airbus A330/A340 AFM to include the information in Airbus Temporary Revision TR37, Issue 1.0, dated June 15, 2010; or Airbus Temporary Revision TR38, Issue 1.0, dated June 15, 2010; to the Airbus A330/A340 AFM. This may be done by inserting Airbus Temporary Revision TR37, Issue 1.0, dated June 15, 2010; or Airbus Temporary Revision TR38, Issue 1.0, dated June 15, 2010; in the AFM.

Note 1 to paragraph (g) of this AD: When the information in Airbus Temporary Revision TR37, Issue 1.0, dated June 15, 2010; or Airbus Temporary Revision TR38, Issue 1.0, dated June 15, 2010; to the Airbus A330/A340 AFM has been included in the applicable section of the general revisions of the AFM, the general revisions may be inserted into the AFM, provided the relevant information in the general revisions is identical to that in Airbus Temporary Revision TR37, Issue 1.0, dated June 15, 2010; or Airbus Temporary Revision TR38, Issue 1.0, dated June 15, 2010.

(h) Other FAA AD Provisions

The following provisions also apply to this AD:

(1) Alternative Methods of Compliance (AMOCs): The Manager, International Branch, ANM-116, FAA, has the authority to approve AMOCs for this AD, if requested using the procedures found in 14 CFR 39.19. In accordance with 14 CFR 39.19, send your request to your principal inspector or local Flight Standards District Office, as appropriate. If sending information directly to the International Branch, send it to ATTN: Vladimir Ulyanov, Aerospace Engineer, International Branch, ANM-116, Transport Airplane Directorate, FAA 1601 Lind Avenue SW., Renton, Washington 98057-3356; telephone (425) 227-1138; fax (425) 227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(i) Related Information

Refer to MCAI European Aviation Safety Agency Airworthiness Directive 2012-0069, dated April 24, 2012, and the service information specified in paragraphs (i)(1) and (i)(2) of this AD, for related information.

(1) Airbus Temporary Revision TR37, Issue 1.0, dated June 15, 2010, to the Airbus A330/A340 AFM.

(2) Airbus Temporary Revision TR38, Issue 1.0, dated June 15, 2010, to the Airbus A330/A340 AFM.

(j) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Airbus Temporary Revision TR37, Issue 1.0, dated June 15, 2010, to the Airbus A330/340 Airplane Flight Manual.

(ii) Airbus Temporary Revision TR38, Issue 1.0, dated June 15, 2010, to the Airbus A330/340 Airplane Flight Manual.

(3) For service information identified in this AD, contact Airbus SAS—Airworthiness Office—EAL, 1 Rond Point Maurice Bellonte, 31707 Blagnac Cedex, France; telephone +33 5 61 93 36 96; fax +33 5 61 93 45 80; email airworthiness.A330-A340@airbus.com; Internet http://www.airbus.com.

(4) You may review copies of the service information at the FAA, Transport Airplane Directorate, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on January 28, 2013.
Ali Bahrami,
Manager, Transport Airplane Directorate, Aircraft Certification Service.

[FR Doc. 2013-05193 Filed 3-8-13; 8:45 am]

BILLING CODE 4910-13-P